DEPARTMENT OF LABOR

Bureau of Labor Statistics

Technical Advisory Committee; Notice of Meeting and Agenda

The Bureau of Labor Statistics Technical Advisory Committee will meet on Thursday, November 7, 2024. This meeting will be held virtually from 10:00 a.m. to 4:00 p.m. EST.

The Committee presents advice and makes recommendations to the Bureau of Labor Statistics (BLS) on technical aspects of data collection and the formulation of economic measures and makes recommendations on areas of research. The BLS presents issues and then draws on the expertise of Committee members representing specialized fields within the academic disciplines of economics, statistics, data science, and survey design.

The schedule and agenda for the meeting are as follows:

10:00 a.m. Commissioner's Welcome and Review of Agency Developments

10:30 a.m. Updating the Contingent Worker Supplement to the Current Population Survey

1:00 p.m. Response Rates and Data Quality Measures with Integrated Data

2:00 p.m. Household Cost Indexes: Prototype Methods and Initial Results

3:00 p.m. Measuring Productivity of Metropolitan Statistical Areas

4:00 p.m. Approximate Conclusion

The meeting is open to the public. Any questions concerning the meeting should be directed to Sarah Dale, Bureau of Labor Statistics Technical Advisory Committee, at BLSTAC@bls.gov. Individuals planning to attend the meeting should register at https://blstac.beventbrite.com. Individuals who require special accommodations should contact Ms. Dale at least two days prior to the meeting date.

Signed at Washington, DC, this 15th day of October 2024.
Leslie Bennett
Chief, Division of Management Systems.

[FR Doc. 2024-24138 Filed 10-17-24; 8:45 am]

BILLING CODE 4510-24-P